DEPARTMENT OF COMMERCE

Foreign-Trade Zones Board

[S-125-2023]

Approval of Subzone Status; Findlay's Tall Timbers Distribution Center LLC dba Southern Tier Logistics; Village of Horseheads, New York

On July 17, 2023, the Executive Secretary of the Foreign-Trade Zones (FTZ) Board docketed an application submitted by the County of Orange, grantee of FTZ 37, requesting subzone status subject to the existing activation limit of FTZ 37, on behalf of Findlay's Tall Timbers Distribution Center LLC dba Southern Tier Logistics, in the Village of Horseheads, New York.

The application was processed in accordance with the FTZ Act and Regulations, including notice in the Federal Register inviting public comment (88 FR 47104, July 21, 2023). The FTZ staff examiner reviewed the application and determined that it meets the criteria for approval. Pursuant to the authority delegated to the FTZ Board Executive Secretary (15 CFR 400.36(f)), the application to establish Subzone 37G was approved on September 1, 2023, subject to the FTZ Act and the Board's regulations, including section 400.13, and further subject to FTZ 37's 2,000-acre activation limit.

Dated: September 1, 2023.
Elizabeth Whiteman,
Executive Secretary.

[FR Doc. 2023-19331 Filed 9-6-23; 8:45 am]

BILLING CODE P